DEPARTMENT OF ENERGY

Bonneville Power Administration

Policy for Power Supply Role for Fiscal Years 2007-2011 (Regional Dialogue)

AGENCY: Bonneville Power Administration (BPA), Department of Energy (DOE).

ACTION: Notice of availability of a National Environmental Policy Act (NEPA) Record of Decision (ROD).

SUMMARY: This notice announces the availability of the NEPA ROD to adopt a policy on BPA's power supply role for fiscal years 2007-2011. This policy is intended to provide BPA's customers with greater clarity about their Federal power supply so they can effectively plan for the future and make capital investments in long-term electricity infrastructure if they choose. It is also intended to provide guidance on certain rate matters BPA expects to be addressed in the next rate period, while assisting the agency in fulfilling its long-term strategic goals and responsibilities to the region. Each policy issue has been evaluated for environmental effects and, for those involving NEPA, those effects have been addressed in the Business Plan Environmental Impact Statement (DOE/EIS-0183, June 1995). Thus, this NEPA ROD is consistent with and tiered to the Business Plan EIS and the Business Plan ROD (August 15, 1995). This policy, which is also referred to as the Regional Dialogue as it is the result of a regional discussion process beginning in April 2002, is described more fully in a separately issued Administrator's ROD that addresses the legal and policy rationale supporting the administrative decisions.

ADDRESSES: Copies of the following documents may be obtained by calling BPA's toll-free document request line, 1-800-622-4520, or by visiting the Web site at http://www.efw.bpa.gov: The NEPA ROD for the Policy for Power Supply Role for Fiscal Years 2007-2011; the Administrator's ROD on the policy; and the Business Plan EIS and ROD.

FOR FURTHER INFORMATION, CONTACT: Katherine S. Pierce, Bonneville Power Administration—KEC-4, P.O. Box 3621, Portland, Oregon 97208-3621; toll-free telephone number 1-800-282-3713; fax number 503-230-5699; or e-mail kspierce@bpa.gov.

SUPPLEMENTARY INFORMATION: The Business Plan EIS to which this NEPA ROD is tiered was prepared to support a number of decisions including the products and services BPA will market, rates for BPA's products and services, policy direction for BPA's sale of power products to customers, contract terms BPA will offer for power sales, and plans for BPA's resource acquisitions and power purchase contracts. Each of the issues in this Regional Dialogue policy that were found to have any environmental effects were consistent with the Market Driven Alternative adopted in the Business Plan ROD. For some policy issues, NEPA was not implicated because there were no environmental effects, and for other issues, NEPA was not triggered because they are a continuation of the status quo. For the remaining issues, any environmental effects have already been addressed in the Business Plan EIS.

Issued in Portland, Oregon, on February 4, 2005.
Stephen J. Wright,
Administrator and Chief Executive Officer.

[FR Doc. 05-2782 Filed 2-11-05; 8:45 am]

BILLING CODE 6450-01-P